DEPARTMENT OF TRANSPORTATION

National Highway Traffic Safety Administration

49 CFR Part 571

[Docket No. NHTSA 2004-17471]

Federal Motor Vehicle Safety Standards; Rearview Mirrors Correction

AGENCY: National Highway Traffic Safety Administration, DOT.

ACTION: Correcting amendment.

SUMMARY: On March 27, 1995, the National Highway Traffic Safety Administration (NHTSA) published a final rule amending the field of view requirements for System A mirrors on school buses, such that those mirrors will no longer be required to provide a view of the ground forward of the rear wheels (60 FR 15690). Previously, System A mirrors were required to provide a view of the area beneath those mirrors, a view that overlapped with the vehicle's System B mirrors, which are also required. The effective date of the amendment was April 26, 1995. However, this new language was later inadvertently modified in two later, substantively unrelated amendments.

This document corrects NHTSA's inadvertent modification of the relevant regulatory language.

DATES: These amendments are effective May 10, 2004.

FOR FURTHER INFORMATION CONTACT: The following persons at the NHTSA, 400 Seventh Street, SW., Washington, DC 20590.

For non-legal issues, you may call Mr. Charles Hott, Office of Crash Avoidance Standards (Telephone: 202-366-0247) (Fax: 202-366-4329).

For legal issues, you may call Mr. Eric Stas, Office of Chief Counsel (Telephone: 202-366-2992) (Fax: 202-366-3820).

SUPPLEMENTARY INFORMATION: Federal Motor Vehicle Safety Standard (FMVSS) No. 111, Rearview Mirrors, specifies requirements for the performance and location of rearview mirrors on passenger cars, multipurpose passenger vehicles, trucks, buses, school buses, and motorcycles. The purpose of the standard is to reduce the number of deaths and injuries that occur when the driver of a motor vehicle does not have a clear and reasonably unobstructed view to the rear.

On March 27, 1995, the agency amended paragraphs S9.2(b)(1) and (2) of FMVSS No. 111 to change the field of view requirements of System A mirrors on school buses, which provide a view of the area beneath those mirrors, along both sides of the bus, and to the rear of the bus (60 FR 15690). Under the final rule, System A mirrors were no longer required to provide a view of the ground forward of the rear wheels, because this field of view overlaps with that provided by the bus's required System B mirrors, which provide a view of the area around the front of the school bus and near the rear wheels. The intention was to modify the standard's existing requirements such that school bus manufacturers would no longer have to install either an additional convex mirror, which creates a larger blind spot for the driver, or replace the existing convex mirror with a highly curved convex mirror that produces more distorted images.

In 1998, NHTSA published two final rules related to metric conversion that, in part, amended FMVSS No. 111, but which inadvertently resulted in unintended modification of the standard's field of view requirements for school buses. In the final rule for metric conversion, published in the Federal Register on May 27, 1998, language was mistakenly inserted under paragraphs S9.2(b)(1) and (2) of the standard that would require measurement from the mirror surface, rather than maintaining proper focus on measurement from the appropriate test cylinder (63 FR 28922). Subsequently, NHTSA published a final rule; response to petitions for reconsideration in the Federal Register on September 24, 1998 (63 FR 50995). In attempting to correct an unrelated error brought to the agency's attention, a modification intended for paragraph S9.3(b)(2) was inadvertently inserted at S9.2(b)(2).

In light of the above, NHTSA is publishing this correcting amendment to reinstate the appropriate regulatory language for field of view measurement for System A mirrors on school buses, consistent with both the March 27, 1995 final rule modifying FMVSS No. 111 and the 1998 final rules for metric conversion. We also are making the necessary correction to S9.3(b)(2).

This amendment to the final rule is effective 30 days after the date of publication in the Federal Register. Remedying this error on the part of the agency will not impose any additional substantive requirements or burdens on manufacturers. Therefore, NHTSA finds for good cause that any notice of proposed rulemaking and opportunity for comment on these amendments are not necessary.

List of Subjects in 49 CFR Part 571

Imports, Motor vehicle safety, Reporting and recordkeeping requirements, Tires.

PART 571—FEDERAL MOTOR VEHICLE SAFETY STANDARDS

Accordingly, 49 CFR Part 571 is corrected by making the following correcting amendment:

1. The authority citation for Part 571 of Title 49 continues to read as follows:

Authority: 49 U.S.C. 322, 30111, 30115, 30117, and 30166; delegation of authority at 49 CFR 1.50.

2. Section 571.111 is amended by revising S9.2 and S9.3 to read as follows:

§ 571.111 Standard No. 111; Rearview mirrors.

* * * * *

S9.2. System A shall be located with stable supports so that the portion of the system on the bus's left side, and the portion on its right side, each:

(a) Includes at least one mirror of unit magnification with not less than 323 cm² of reflective surface; and

(b) Includes one or more mirrors which together provide, at the driver's eye location, a view of:

(1) For the mirror system on the right side of the bus, the entire top surface of cylinder N in Figure 2, and that area of the ground which extends rearward from cylinder N to a point not less than 61 meters from the mirror surface.

(2) For the mirror system on the left side of the bus, the entire top surface of cylinder M in Figure 2, and that area of the ground which extends rearward from cylinder M to a point not less than 61 meters from the mirror surface.

S9.3(a) For each of the cylinders A through P whose entire top surface is not directly visible from the driver's eye location, System B shall provide, at that location:

(1) A view of the entire top surface of that cylinder.

(2) A view of the ground that overlaps with the view of the ground provided by System A.

(b) Each mirror installed in compliance with S9.3(a) shall meet the following requirements:

(1) Each mirror shall have a projected area of at least 258 cm², as measured on a plane at a right angle to the mirror's axis.

(2) Each mirror shall be located such that the distance from the center point of the eye location of a 25th percentile adult female seated in the driver's seat to the center of the mirror shall be at least 95 cm.

(3) Each mirror shall have no discontinuities in the slope of the surface of the mirror.

(4) Each mirror shall be installed with a stable support.

(c) Each school bus which has a mirror installed in compliance with S9.3(a) that has an average radius of curvature of less than 889 mm, as determined under S12, shall have a label visible to the seated driver. The label shall be printed in a type face and color that are clear and conspicuous. The label shall state the following:

“USE CROSS VIEW MIRRORS TO VIEW PEDESTRIANS WHILE BUS IS STOPPED. DO NOT USE THESE MIRRORS TO VIEW TRAFFIC WHILE BUS IS MOVING. IMAGES IN SUCH MIRRORS DO NOT ACCURATELY SHOW ANOTHER VEHICLE'S LOCATION.”

* * * * *

Issued: April 2, 2004.
Stephen R. Kratzke,
Associate Administrator for Rulemaking.

[FR Doc. 04-7962 Filed 4-7-04; 8:45 am]

BILLING CODE 4910-59-P